DEPARTMENT OF COMMERCE

Bureau of Industry and Security

Sensors and Instrumentation Technical Advisory Committee; Notice of Open Meeting

The Sensors and Instrumentation Technical Advisory Committee (SITAC) will meet on Tuesday, January 30, 2024, 9:30 a.m., (Pacific standard time) at the SPIE Photonics West 2023, at the InterContinental Hotel San Francisco, 888 Howard Street, in the Fremont Room (Level 5), San Francisco, CA 94103. The Committee advises the Office of the Assistant Secretary for Export Administration on technical questions that affect the level of export controls applicable to sensors and instrumentation equipment and technology. The purpose of the meeting is to have Committee members and U.S. Government representatives mutually review updated technical data and policy-driving information that has been gathered.

Agenda

Open Session

1. Welcome and Introductions

2. Remarks from the Bureau of Industry and Security Management

3. Industry Presentations

4. New Business

To join the conference, submit inquiries to Ms. Yvette Springer at Yvette.Springer@bis.doc.gov no later than January 23, 2024.

A limited number of seats will be available during the public session of the meeting.

Reservations are not accepted. To the extent that time permits, members of the public may present oral statements to the Committee. The public may submit written statements at any time before or after the meeting. However, to facilitate distribution of public presentation materials to the Committee members, the Committee suggests that the materials be forwarded before the meeting to Ms. Springer.

For more information contact Ms. Springer via email.

Yvette Springer,
Committee Liaison Officer.

[FR Doc. 2024-00422 Filed 1-10-24; 8:45 am]

BILLING CODE 3510-JT-P